DEPARTMENT OF AGRICULTURE

Risk Management Agency

Notice of Intent To Seek Approval To Conduct an Information Collection

AGENCY: Risk Management Agency, USDA.

ACTION: Notice and request for comments.

SUMMARY: In accordance with the Paperwork Reduction Act of 1995, this notice announces the intention of the Risk Management Agency to request approval for the collection of information in support of the agency's mission under section 522(d) of the Federal Crop Insurance Act to develop and implement risk management tools for producers of agricultural commodities through partnership agreements.

DATES: Written comments on this notice will be accepted until close of business February 6, 2006.

ADDRESSES: Interested persons are invited to submit written comments to Virginia Guzman, United States Department of Agriculture (USDA), Research and Evaluation Division, Federal Crop Insurance Corporation, Risk Management Agency, 6501 Beacon Drive, Mail Stop 813, Kansas City, MO 64133. Written comments may also be submitted electronically to: RMARED—PRA@rm.fcic.usda.gov.

FOR FURTHER INFORMATION CONTACT: Virginia Guzman or David Fulk, at the Kansas City, MO address listed above, telephone (816) 926-6343.

SUPPLEMENTARY INFORMATION: Title: Organic Price Project.

OMB Number: 0563-NEW.

Type of Request: New Information Collection.

Abstract: The Risk Management Agency intends to collect price information on selected organic commodities from major regional distributors of organic products in support of a partnership agreement with the Rodale Institute to develop an organic price reporting system. Prices will be collected once each week by various means including e-mail, telephone, fax, and from Web sites in whatever form is customarily used by the distributor to post prices. The price information that is collected will be posted on an existing Web site maintained by the Rodale Institute to assist organic producers and allied interests in price discovery. We are asking the Office of Management and Budget (OMB) to approve this information collection activity for 3 years.

The purpose of this notice is to solicit comments from the public concerning the information collection activities. These comments will help us:

1. Evaluate whether the proposed collection of information is necessary for the proper performance of the functions of the agency, including whether the information will have practical utility;

2. Evaluate the accuracy of the agency's estimate of the burden of the proposed collection of information;

3. Enhance the quality, utility, and clarity of the information to be collected; and

4. Minimize the burden of the collection of information on those who are to respond, through use, as appropriate, of automated, electronic, mechanical, or other collection technologies, e.g. permitting electronic submission of responses.

Estimate of Burden: The public reporting burden for this collection of information is estimated to average 1 minute per response for a total annual burden of 53 hours.

Respondents/Affected Entities: Individuals and businesses involved in the production of organic crops: academia, including individuals or representatives of universities and colleges who are involved in research and issues of American agriculture and risk management.

Estimated annual number of respondents: 60.

Estimated annual number of responses: 3,120 or 52 per respondent.

Estimated total annual burden on respondents: 53 hours.

All responses to this notice will be summarized and included in the request for OMB approval. All comments will also become a matter of public record.

Signed in Washington, DC, on November 30, 2005.
Eldon Gould,
Manager, Federal Crop Insurance Corporation.

[FR Doc. E5-6987 Filed 12-6-05; 8:45 am]

BILLING CODE 3410-08-P